DEPARTMENT OF LABOR

Occupational Safety and Health Administration

[Docket No. OSHA-2007-0013]

National Advisory Committee on Occupational Safety and Health (NACOSH); Announcement of Meeting

AGENCY: Occupational Safety and Health Administration (OSHA), Labor.

ACTION: Announcement of meeting.

SUMMARY: The National Advisory Committee on Occupational Safety and Health (NACOSH) will meet December 12, 2007, in Washington, DC.

DATES: NACOSH meeting: NACOSH will meet from 9 a.m. to 4:30 p.m., Wednesday, December 12, 2007.

Submission of comments and requests to speak: Comments and requests to speak at the NACOSH meeting must be received by December 5, 2007.

ADDRESSES: NACOSH meeting: NACOSH will meet in Room N-3437 A/B/C, U.S. Department of Labor, 200 Constitution Avenue, NW., Washington, DC 20210.

Submission of comments and requests to speak: Comments and requests to speak at the NACOSH meeting, identified by docket number for this Federal Register notice (Docket No. OSHA-2007-0013), may be submitted by any of the following methods:

Electronically: You may submit materials, including attachments, electronically at: http://www.regulations.gov, the Federal eRulemaking Portal. Follow the online instructions for making submissions.

Facsimile: If your submission, including attachments, does not exceed 10 pages, you may fax it to the OSHA Docket Office at (202) 693-1648.

Mail, express delivery, hand delivery, messenger or courier service: Submit three copies of your submissions to the OSHA Docket Office, Room N-2625, U.S. Department of Labor, 200 Constitution Avenue, NW., Washington, DC 20210, telephone (202) 693-2350 (TTY (877) 889-5627). Deliveries (hand, express mail, messenger and courier service) are accepted during the Department of Labor's and OSHA Docket Office's normal business hours, 8:15 a.m. to 4:45 p.m., e.t.

Instructions: All submissions must include the Agency name and docket number for this Federal Register notice (Docket No. OSHA-2007-0013). Submissions in response to this notice, including personal information provided, will be posted without change at http:www.regulations.gov. Therefore, OSHA cautions interested parties about submitting personal information such as Social Security numbers and birth dates. Because of security-related procedures, submissions by regular mail may result in a significant delay in their receipt. Please contact the OSHA Docket Office, at the address above, for information about security procedures submitting materials by hand delivery, express delivery, and messenger or courier service. For additional information on submitting comments and requests to speak, see the SUPPLEMENTARY INFORMATION section below.

Docket: To read or download submission, go to http://www.regulations.gov. Although listed in the index, some documents (e.g., copyrighted material) are not publicly available to read or download through http://www.regulations.gov. All submissions, including copyrighted material, are available for inspection and copying at the OSHA Docket Office at the address above.

FOR FURTHER INFORMATION CONTACT: For general information: Deborah Crawford, OSHA, Directorate of Evaluation and Analysis, U.S. Department of Labor, Room N-3641, 200 Constitution Avenue, NW., Washington, DC 20210; telephone (202) 693-1932; fax (202) 693-1641; e-mail Crawford.deborah@dol.gov.

For special accommodations for the NACOSH meeting: Veneta Chatmon, OSHA, Office of Communications, Room N-3647, U.S. Department of Labor, 200 Constitution Avenue, NW., Washington, DC 20210; telephone (202) 693-1999; e-mail Chatmon.Veneta@dol.gov.

SUPPLEMENTARY INFORMATION: NACOSH will meet Wednesday, December 12, 2007, in Washington, DC. All NACOSH meetings are open to the public.

NACOSH is authorized by section 7(a) of the Occupational Safety and Health Act of 1970 (OSH Act) (29 U.S.C. 656) to advise the Secretary of Labor and the Secretary of Health and Human Services on matters relating to the administration of the OSH Act. NACOSH is a continuing advisory body and operates in compliance with provisions in the OSH Act, the Federal Advisory Committee Act (5 U.S.C. App. 2), and regulations issued pursuant to those laws (29 CFR part 1912a, 41 CFR parts 101-6 and 102-3).

The tentative agenda for the NACOSH meeting includes:

• Standards and guidance update including diacetyl, beryllium and pandemic flu,

• Presentation on OSHA's Operating Plan,

• Presentation on current activities of the National Institute for Occupational Safety and Health (NIOSH),

• Presentation on the NIOSH National Occupational Research Agenda (NORA), and

• NACOSH work groups.

NACOSH meetings are transcribed and detailed minutes of the meetings are prepared. Meeting transcripts and minutes are included in the official record of NACOSH meetings (Docket No OSHA-20070013).

Interested parties may submit a request to make an oral presentation to NACOSH by one of the methods listed in the ADDRESSES section above. The request must state the amount of time requested to speak, the interest represented (e.g., organization name), if any, and a brief outline of the presentation. Requests to address NACOSH may be granted as time permits and at the discretion of the NACOSH chair.

Interested parties also may submit comments, including data and other information using any of the methods listed in the ADDRESSES section above. OSHA will provide all submissions to NACOSH members.

Individuals who need special accommodation to attend the NACOSH meeting should contact Veneta Chatmon, at the address above, at least seven days before the meeting.

Public Participation—Submisions and Access to Official Meeting Record

You may submit comments and requests to speak (1) electronically, (2) by facsimile, or (3) by hard copy. All submissions, including attachments and other materials, must identify the Agency name and the docket number for this notice (Docket No. OSHA-2007-0013). You may supplement electronic submissions by uploading documents electronically. If, instead, you wish to submit hard copies of supplementary documents, you must submit three copies to the OSHA Docket Office using the instructions in the ADDRESSES section above. The additional materials must clearly identify your electronic submission by name, date and docket number.

Because of security-related procedures, the use of regular mail may cause a significant delay in the receipt of submissions. For information about security procedures concerning submissions by hand, express delivery, messenger or courier service, please contact the OSHA Docket Office at (202) 693-2350 (TTY (877) 889-5627).

Meeting transcripts and minutes as well as submissions in response to this Federal Register notice are included in the official record of the NACOSH meeting (Docket No. OSHA-2007-0013). Submissions are posted without change at http://www.regulations.gov. Therefore, OSHA cautions interested parties about submitting personal information such as Social Security numbers and birth dates. Although all submissions are listed in the http://www.regulations.gov index, some documents (e.g., copyrighted materials) are not publicly available to read or download through http://www.regulations.gov. All submissions, including copyrighted material, are available for inspection and copying at the OSHA Docket Office.

Information on using the http://www.regulations.gov Web site to make submissions and to access the docket and exhibits is available at the Web site's User Tips link. Contact the OSHA Docket Office for information about materials not available through the Web site and for assistance in using the Internet to locate submissions and other documents in the docket. Electronic copies of this Federal Register notice are available at http://www.regulations.gov. This notice, as well as news releases and other relevant information, is also available on OSHA Webpage at http://www.osha.gov.

Authority and Signature

Edwin G. Foulke, Jr., Assistant Secretary of Labor for Occupational Safety and Health, directed the preparation of this notice under the authority granted by section 7 of the Occupational Safety and Health Act of 1970 (29 U.S.C. 656), 29 CFR 1912a, the Federal Advisory Committee Act (5 U.S.C. App. 2), and Secretary of Labor's Order No. 5-2007 (72 FR 31160).

Signed at Washington, DC, this 20th day of November, 2007.
Edwin G. Foulke, Jr.,
Assistant Secretary of Labor for Occupational Safety and Health.

[FR Doc. E7-22914 Filed 11-23-07; 8:45 am]

BILLING CODE 4510-26-P